ENVIRONMENTAL PROTECTION AGENCY

[FRL-9241-7]

Science Advisory Board Staff Office; Request for Nominations of Experts To Augment the SAB Drinking Water Committee (DWC)

AGENCY: Environmental Protection Agency (EPA).

ACTION: Notice.

SUMMARY: The EPA Science Advisory Board (SAB) Staff Office is requesting public nominations of experts to augment the SAB Drinking Water Committee (DWC) to review technical studies examining the effectiveness of partial lead service line replacements.

DATES: Nominations should be submitted by January 11, 2011 per instructions below.

FOR FURTHER INFORMATION CONTACT: Any member of the public wishing further information regarding this Notice and Request for Nominations may contact Mr. Aaron Yeow, Designated Federal Officer (DFO), SAB Staff Office, by telephone/voice mail at (202) 564-2050; by fax at (202) 565-2098 or via e-mail at ayeow.aaron@epa.gov. General information concerning the EPA Science Advisory Board can be found on the EPA SAB Web site at http://www.epa.gov/sab.

SUPPLEMENTARY INFORMATION:

Background: The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. The SAB will comply with the provisions of FACA and all appropriate SAB Staff Office procedural policies.

Exposure to lead through drinking water results primarily from the corrosion of lead pipes and plumbing materials. EPA's Office of Water (OW) promulgated the Lead and Copper Rule (LCR) to minimize the amount of lead in drinking water. The LCR requires water systems that are not able to limit lead corrosion through treatment to replace service lines (pipes connecting buildings to water distribution mains) that are made from lead. Water systems must replace the portion of the lead service line owned by the system and offer to replace the customer's portion at the customer's cost. When customers do not replace their portion of the service line, the situation is called a “partial lead service line replacement.” OW has requested the SAB to review and provide advice on recent studies examining the effectiveness of partial lead service line replacements. SAB's advice will guide EPA's determination of whether the scientific foundation for the regulatory requirement allowing the use of partial lead service line replacement may need to be modified in light of more recent scientific studies. The SAB Staff Office will augment the DWC, which provides advice to the EPA Administrator through the chartered SAB on the technical aspects of EPA's national drinking water standards program, to review these studies.

Request for Nominations

To augment expertise on the SAB DWC, the SAB Staff Office is seeking nominations of recognized experts with demonstrated expertise and research in one or more of the following areas related to lead: environmental engineering, drinking water exposure assessment, epidemiology, statistics, and risk assessment.

Availability of the review materials: The review materials will be made available on the SAB Web site. For questions concerning the review materials, please contact Mr. Matt Robinson at (202) 564-2802, or robinson.mattm@epa.gov.

Process and Deadline for Submitting Nominations: Any interested person or organization may nominate qualified individuals in the areas of expertise described above for possible service on this expert Panel. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested below.

EPA's SAB Staff Office requests contact information about the person making the nomination; contact information about the nominee; the disciplinary and specific areas of expertise of the nominee; the nominee's curriculum vita; sources of recent grant and/or contract support; and a biographical sketch of the nominee indicating current position, educational background, research activities, and recent service on other national advisory committees or national professional organizations.

Persons having questions about the nomination procedures, or who are unable to submit nominations through the SAB Web site, should contact Mr. Aaron Yeow, DFO, as indicated above in this notice. Nominations should be submitted in time to arrive no later than January 11, 2011. EPA values and welcomes diversity. In an effort to obtain nominations of diverse candidates, EPA encourages nominations of women and men of all racial and ethnic groups.

The EPA SAB Staff Office will acknowledge receipt of nominations. The names and bio-sketches of qualified nominees identified by respondents to this Federal Register notice, and additional experts identified by the SAB Staff, will be posted in a List of Candidates on the SAB Web site at http://www.epa.gov/sab. Public comments on this List of Candidates will be accepted for 21 calendar days. The public will be requested to provide relevant information or other documentation on nominees that the SAB Staff Office should consider in evaluating candidates.

For the EPA SAB Staff Office, a review panel includes candidates who possess the necessary domains of knowledge, the relevant scientific perspectives (which, among other factors, can be influenced by work history and affiliation), and the collective breadth of experience to adequately address the charge. In forming this expert panel, the SAB Staff Office will consider public comments on the List of Candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, (f) for the Panel as a whole, diversity of expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: December 14, 2010.
Vanessa T. Vu,
Director, EPA Science Advisory Board Staff Office.

[FR Doc. 2010-32031 Filed 12-20-10; 8:45 am]

BILLING CODE 6560-50-P